OFFICE OF THE UNITED STATES TRADE REPRESENTATIVE

CAFTA-DR Dispute Settlement Proceeding Regarding Guatemala's Failure To Effectively Enforce Its Labor Laws

AGENCY: Office of the United States Trade Representative.

ACTION: Notice; request for comments.

SUMMARY: The Office of the United States Trade Representative (“USTR”) is providing notice that effective September 19, 2014, at the request of the United States, the arbitral panel reviewing the U.S. challenge to Guatemala's breach of its obligations under Article 16.2.1(a) of the Dominican Republic—Central America—United States Free Trade Agreement (“CAFTA-DR”) has begun its review.

DATES: Although USTR will accept any comments received during the course of the dispute settlement proceedings, comments should be submitted on or before February 20, 2015, to be assured of timely consideration by USTR.

ADDRESSES: Public comments should be submitted electronically to www.regulations.gov, docket number USTR-2014-0023. If you are unable to provide submissions by www.regulations.gov, please contact Sandy McKinzy at (202) 395-9483 to arrange for an alternative method of transmission.

If (as explained below) the comment contains confidential information, then the comment should be submitted by fax only to Sandy McKinzy at (202) 395-3640.

FOR FURTHER INFORMATION CONTACT: Kathleen Claussen, Assistant General Counsel, Office of the United States Trade Representative, 600 17th St. NW., Washington, DC 20508, (202) 395-9589.

SUPPLEMENTARY INFORMATION: USTR is providing notice that a dispute settlement arbitral panel (“panel”) has been established pursuant to Chapter Twenty of the CAFTA-DR and has now begun its work. The case documents and timetable for the proceedings are available to the public at the following Web site: http://www.ustr.gov/trade-topics/labor/bilateral-and-regional-trade-agreements/guatemala-submission-under-cafta-dr.

Issue Raised by the United States

On August 9, 2011, the United States requested a panel to review Guatemala's failure to effectively enforce its labor laws related to the right of association, the right to organize and bargain collectively, and acceptable conditions of work, through a sustained or recurring course of action or inaction, in a manner affecting trade between the CAFTA-DR Parties, contrary to Article 16.2.1(a) of the CAFTA-DR. The United States and Guatemala requested the panel to suspend its work to allow the Parties to negotiate and implement an Enforcement Plan. Despite engagement through the Enforcement Plan, the concerns regarding effective enforcement of Guatemala's labor laws remain. As a result, the United States requested the panel to resume its work, effective September 19, 2014. The United States filed its opening submission on November 3, 2014.

Public Comment: Requirements for Submissions

Interested persons are invited to submit written comments concerning the issues raised in this dispute. Persons may submit public comments electronically to www.regulations.gov docket number USTR-2014-0023. If you are unable to provide submissions at www.regulations.gov, please contact Sandy McKinzy at (202) 395-9483 to arrange for an alternative method of transmission.

To submit comments via www.regulations.gov, enter docket number USTR-2014-0023 on the home page and click “search”. The site will provide a search-results page listing all documents associated with this docket. Find a reference to this notice by selecting “Notice” under “Document Type” on the left side of the search-results page, and click on the link entitled “Comment Now!” (For further information on using the www.regulations.gov Web site, please consult the resources provided on the Web site by clicking on “How to use Regulations.gov” under “Help” on the bottom of the page.)

The www.regulations.gov Web site allows users to provide comments by filling in a “Type Comments” field, or by attaching a document using an “Upload File” field. It is expected that most comments will be provided in an attached document. If a document is attached, it is sufficient to type “See attached” in the “Type Comments” field.

A person requesting that information contained in a comment that he/she submitted be treated as confidential business information must certify that such information is business confidential and would not customarily be released to the public by the submitter.

Confidential business information must be clearly designated as such and the submission must be marked “BUSINESS CONFIDENTIAL” at the top and bottom of the cover page and each succeeding page. Any comment containing business confidential information must be submitted by fax to Sandy McKinzy at (202) 395-3640. A non-confidential summary of the confidential information must be submitted to www.regulations.gov. The non-confidential summary will be placed in the docket and will be open to public inspection.

USTR may determine that information or advice contained in a comment submitted, other than business confidential information, is confidential in accordance with Section 135(g)(2) of the Trade Act of 1974 (19 U.S.C. 2155(g)(2)). If the submitter believes that information or advice may qualify as such, the submitter—

(1) Must clearly so designate the information or advice;

(2) Must clearly mark the material as “SUBMITTED IN CONFIDENCE” at the top and bottom of the cover page and each succeeding page; and

(3) Must provide a non-confidential summary of the information or advice.

Any comment containing confidential information must be submitted by fax. A non-confidential summary of the confidential information must be submitted to www.regulations.gov. The non-confidential summary will be placed in the docket and will be open to public inspection. USTR will maintain a docket on this dispute settlement proceeding, docket number USTR-2014-0023, accessible to the public at www.regulations.gov.

The public file will include non-confidential comments received by USTR from the public regarding the dispute. The following documents will be made available to the public at www.ustr.gov: The U.S. submissions and any non-confidential summaries or submissions received from other participants in the dispute. Comments open to public inspection may be viewed at www.regulations.gov.

Juan A. Millán,
Assistant United States Trade Representative for Monitoring and Enforcement.

[FR Doc. 2015-01329 Filed 1-23-15; 8:45 am]

BILLING CODE 3290-F5-P